Proclamation 8553 of August 31, 2010

National Wilderness Month, 2010

By the President of the United States of America

A Proclamation

For centuries, the American spirit of exploration and discovery has led us to experience the majesty of our Nation’s wilderness. From raging rivers to serene prairies, from mountain peaks slicing the skyline to forests teeming with life, our Nation’s landscapes have provided wonder, inspiration, and strength to all Americans. Many sites continue to hold historical, cultural, and religious significance for Indian tribes, the original stewards of this continent. We must continue to preserve and protect these scenic places and the life that inhabits them so they may be rediscovered and appreciated by generations to come.

As we celebrate America’s abundance of diverse lands, remarkable wildlife, and untamed beauty during National Wilderness Month, we also look back on our rich history of conservation. It was over 100 years ago that President Theodore Roosevelt marveled at the stark grandeur of the Grand Canyon and declared, “the ages have been at work on it, and man can only mar it.” Since that time, administrations have worked across party lines to defend America’s breathtaking natural sites. President Lyndon B. Johnson signed the Wilderness Act in 1964, and many Presidents have since added new places to this great network of protected lands so that millions of acres of forests, monuments, and parks will be preserved for our children and grandchildren.

Following in the footsteps of my predecessors, I signed the Omnibus Public Land Management Act last year to restore and protect more of our cherished wild spaces. In April of this year, I established the America’s Great Outdoors Initiative to develop a community-based 21st century conservation agenda that can also spur job creation in the tourism and recreation industries. My Administration will continue to work closely with our State, local, and tribal partners to connect Americans with the great outdoors.

This month, we renew our pledge to build upon the legacy of our forebears. Together, we must ensure that future generations can experience the tranquility and grandeur of America’s natural places. As we resolve to meet this responsibility, let us also reflect on the ways in which our lives have been enriched by the gift of the American wilderness.

NOW, THEREFORE, I, BARACK OBAMA, President of the United States of America, by virtue of the authority vested in me by the Constitution and the laws of the United States, do hereby proclaim September 2010 as National Wilderness Month. I invite all Americans to visit and enjoy our wilderness areas, to learn about their vast history, and to aid in the protection of our precious national treasures.

IN WITNESS WHEREOF, I have hereunto set my hand this thirty-first day of August, in the year of our Lord two thousand ten, and of the Independence of the United States of America the two hundred and thirty-fifth.

[FR Doc. 2010-22430

Filed 9-3-10; 11:15 am]

Billing code 3195-W0-P